FEDERAL COMMUNICATIONS COMMISSION

47 CFR Parts 1, 32 and 65

[WC Docket No. 14-130, CC Docket No. 80-286; Report No. 3078]

Petition for Reconsideration of Action in Rulemaking Proceeding

AGENCY: Federal Communications Commission.

ACTION: Petition for Reconsideration.

SUMMARY: A Petition for Reconsideration (Petition) has been filed in the Commission's proceeding by Paul Glist, on behalf of NCTA—The Internet & Television Association.

DATES: Oppositions to the Petition must be filed on or before July 21, 2017. Replies to an opposition must be filed on or before July 31, 2017.

ADDRESSES: Federal Communications Commission, 445 12th Street SW., Washington, DC 20554.

FOR FURTHER INFORMATION CONTACT: Robin Cohn, Pricing Policy Division, Wireline Competition Bureau, at (202) 418-2747 or email: robin.cohn@fcc.gov.

SUPPLEMENTARY INFORMATION: This is a summary of the Commission's document, Report No. 3078, released June 26, 2017. The full text of the Petition is available for viewing and copying at the FCC Reference Information Center, 445 12th Street SW., Room CY-A257, Washington, DC 20554. It also may be accessed online via the Commission's Electronic Comment Filing System at: https://www.fcc.gov/ecfs/filing/106050781930666. The Commission will not send a Congressional Review Act (CRA) submission to Congress or the Government Accountability Office Pursuant to the CRA, 5 U.S.C. because no rules are being adopted by the Commission.

Subject: In the Matter of Comprehensive Review of the Part 32 Uniform System of Accounts; Jurisdictional Separations and Referral to the Federal-State Joint Board, FCC 17-15, published at 82 FR 20833, May 4, 2017, in WC Docket No. 14-130 and CC Docket No. 80-286. This document is being published pursuant to 47 CFR 1.429(e). See also 47 CFR 1.4(b)(1) and 1.429(f), (g).

Number of Petitions Filed: 1.

Federal Communications Commission.
Marlene H. Dortch,
Secretary.

[FR Doc. 2017-14161 Filed 7-5-17; 8:45 am]

BILLING CODE 6712-01-P